DEPARTMENT OF TRANSPORTATION

Federal Aviation Administration

RTCA Special Committee 225, Rechargeable Lithium Battery and Battery Systems, Twenty Fifth Meeting

AGENCY: Federal Aviation Administration (FAA), U.S. Department of Transportation (DOT).

ACTION: RTCA Special Committee 225, Rechargeable Lithium Battery and Battery Systems, twenty fifth meeting.

SUMMARY: The FAA is issuing this notice to advise the public of a meeting of RTCA Special Committee 225, Rechargeable Lithium Battery and Battery Systems, twenty fifth meeting.

DATES: The meeting will be held September 8, 2016, 09:00 a.m.-5:00 p.m. EDT

ADDRESSES: The meeting will be held at: https://rtca.webex.com/rtca/j.php?MTID=m5de7f61dd56194995677271e9ad59931.

Meeting number: 638 848 815.

Meeting password: Batteries1.

Join by phone:

1-877-668-4493 Call-in toll-free number (US/Canada).

1-650-479-3208 Call-in toll number (US/Canada).

Access code: 636 711 821.

FOR FURTHER INFORMATION CONTACT: Jennifer Iversen at jiversen@rtca.org or (202) 330-0662, or The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the RTCA Special Committee 225, Rechargeable Lithium Battery and Battery Systems, twenty fifth meeting. The agenda will include the following:

Thursday, September 8, 2016 (Virtual)

1. Introductions and administrative items (including DFO & RTCA Statement) (15 min)

2. Review agenda (5 min)

3. Review and approve summary from the last Plenary (10 min)

4. Discuss Multi-Cell Thermal Runaway and associated tests and remove duplication (3.5 hours)

5. Lunch (1:00 p.m. EDT—1 hour)

6. Discuss Multi-Cell Thermal Runaway and associated tests and remove duplication (2 hours)

7. Final review of document including: (30 min)

—Document reformat

—Requirements (section 2.2)

—Test Procedures (section 2.4)

8. Approve document for Final Review and Comment (FRAC) (15 min)

9. Establish Agenda, location, and time for next Plenary (15 min)

10. Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 10, 2016.
Mohannad Dawoud,
Management & Program Analyst, Partnership Contracts Branch, ANG-A17 NextGen, Procurement Services Division, Federal Aviation Administration.

[FR Doc. 2016-19421 Filed 8-15-16; 8:45 am]

BILLING CODE 4910-13-P